DEPARTMENT OF TRANSPORTATION

Federal Highway Administration

Environmental Impact Statement: St. Clair County, Michigan

AGENCY: Federal Highway Administration (FHWA), DOT.

ACTION: Notice of availability of and notice of public hearing.

SUMMARY: Pursuant to the National Environmental Policy Act (NEPA) of 1969, the Federal Highway Administration has made available for public review and comments a Draft Environmental Impact Statement (DEIS) for the Blue Water Bridge Plaza Study. The DEIS describes and presents the environmental effects of the three alternatives, the No-Build Alternative and three Build Alternatives. A public hearing will be held to receive comments from individuals and organizations on the DEIS.

DATES: Comment and public hearing dates are: 1. October 9, 2007, public hearing scheduled. 2. November 5, 2007, public comments and due.

The DEIS will be available for a 60-day public review period. Oral and written comments will be available for public review. All submissions from organizations or businesses and from individuals identifying themselves as representatives or officials of organizations or businesses will be made available for public disclosures in their entirety.

ADDRESSES: 1. Document Availability: The document was made available to the public on September 10, 2007. Copies of the Draft DEIS are available for public inspection and review on the project Web site http://www.michigan.gov/bluewaterbridgeproject and at the following locations:

• Fort Gratiot Township, 3720 Keewahdin Rd., Fort Gratiot.

• Port Huron City of, Office of the City Clerk, 10 McMorran Blvd., Port Huron, MI 48060.

• Port Huron Township, 3800 Lapeer Rd., Port Huron, MI 48060.

• MDOT Region Office, 18101 W. Nine Mile Rd., Southfield, MI 48075.

• MDOT Bureau of Transportation Planning, 425 Ottawa St., Lansing.

• MDOT Port Huron Transportation Service Center, 2127 11th Ave., Port Huron, MI 48060.

• St. Clair County Library, 210 McMorran Blvd., Port Huron, MI 48060.

• St. Clair County Planning Office, St. Clair County Bldg., 20 Grand River Ave., Port Huron, MI 48060.

Copies of the Draft EIS may be requested from Bob Parsons (Public Involvement and Hearings Officer) at the Michigan Department of Transportation, 425 W. Ottawa Street, P.O. Box 30050, Lansing, MI 48909 or by calling (517) 373-9534.

2. Comments: Send comments on the Draft EIS to Michigan Department of Transportation, c/o Bob Parsons (Public Involvement and Hearings Officer), 425 W. Ottawa Street, P.O. Box 30050, Lansing, MI 48909.

3. Public Hearing: The public hearing will be held at McMorran Place, 701 McMorran Blvd., Port Huron, Michigan 48060. Two sessions will be held, Session 1 from 4 p.m. to 5:30 p.m. and Session 2 from 6:30 p.m. to 8 p.m. Persons needing special assistance to attend and participate in the public hearing should contact Bob Parsons (Public Involvement and Hearings Officer) at (517) 373-9534 as soon as possible. In order to allow sufficient time to process requests, please call no later than one week before the public hearing. Information regarding this proposed action is available in alternative formats upon request.

FOR FURTHER INFORMATION CONTACT: Major Project Manager: Ryan Rizzo, 517-702-1833. Environmental Program Manager: David T. Williams, 517-702-1820.

SUPPLEMENTARY INFORMATION: The proposed federal action is to expand the Blue Water Bridge Plaza and improve the I-94/I-69 corridor. Improvements are needed on the Blue Water Bridge Plaza to provide safe, efficient and secure movement of people and goods across the Canadian-U.S. border in the Port Huron area to support the economies of Michigan, Ontario, Canada, and the United States and to support the mobility and security needs associated with national and civil defense.

Purpose and Need for the Project: The selected alternative must provide additional space for inspection booths, offices, docks to inspect and unload cargo, new security measures, and parking for cars and trucks needing inspection. The need for additional space and facilities is supported by several key issues including:

• Security issues.

• Introduction of new inspection technologies, procedures, and policies.

• Limited existing space to accommodate increased number of border inspection agents.

• Traffic conflicts and crash history.

• Access between the plaza and adjacent circulatory local roads.

• Traffic growth and traffic backups.

• Existing infrastructure conditions of the I-94/I-69 corridor.

• Upgrading the International Welcome Center.

Alternatives Evaluated: The DEIS evaluates three action alternatives in addition to a No-Build Alternative: City East Alternative, City West Alternative and the Township Alternative.

1. The No-Build Alternative would not make any changes to the existing plaza configuration or ramps. MDOT and CBP would continue to maintain the existing plaza facilities and new technology and procedures would be introduced on the existing plaza footprint as space allows. The existing welcome center would remain in its current location.

2. The City East Alternative would require 133 acres for an expanded plaza and improvements along the I-94/I-69 corridor including the Welcome Center which includes 67 acres for the plaza. This alternative would require the relocation of Pine Grove Avenue to the east along 10th Avenue and would bring most of the plaza down to street level. Pine Grove Avenue would be re-routed to the east of the existing plaza, between Hancock Street and Scott Avenue. Pine Grove Avenue and 10th Avenue would merge for a joint five-lane road between Scott Avenue and Elmwood Street. The City East Alternative uses the block between Hancock Street and the existing plaza, west of Pine Grove Avenue for an expanded truck inspection area. The Black River Bridge Water Street Interchange would be rebuilt and the Lapeer Connector Interchange would be expanded to include access in all directions. A new MDOT Welcome Center would be constructed north of I-94/I-69 in Port Huron Township, replacing the existing Welcome Center at Water Street.

3. The City West Alternative includes 31 acres for an expanded plaza and improvements along the I-94/I-69 corridor including the Welcome Center which includes 65 acres for the plaza. The City West Alternative would require the relocation of Pine Grove Avenue to the west of the plaza. The relocated Pine Grove Avenue would wrap around the south and west sides of the new plaza. Near Hancock Street, the relocated Pine Grove Avenue would split into separate northbound and southbound lanes. The northbound lanes would turn back east and connect to existing Pine Grove Avenue at Riverview Street. The southbound lanes would follow the existing M-25 Connector. The City West Alternative would use the block bounded by 10th Avenue, Hancock Street, the M-25 Connector, and the existing plaza for expanded inspection and plaza facilities. The City West Alternative would also rebuild the Black River Bridge from a four-lane bridge to nine lanes and reconstruct the Water Street Interchange. The Lapeer Connector Interchange would be expanded to include access in all directions. A new MDOT Welcome Center would be constructed north of I-94/I-69 in Port Huron Township, replacing the existing Welcome Center at Water Street.

4. The Township Alternative involves the relocation of major plaza functions to Port Huron Township, 1.5 miles west of the current facility, on currently undeveloped land. This site also would include a new MDOT Welcome Center. Existing I-94/I-69 lanes west of the plaza and the Blue Water Bridge. The M-25 Connector would be extended to provide a local access road parallel to the existing I-94/I-69 with full access to Water Street and the Lapeer Connector. The Black River Bridge in the Township Alternative would be replaced and expanded from four lanes to ten lanes. While the current plaza footprint would remain the same, local traffic would no longer be able to exist at the existing plaza or use Pine Grove Avenue to access the plaza. Allow inspections would occur at the new plaza in the Township. The Township Alternative would also include traffic related improvements such as additional lanes and turn lanes for key local roads surrounding the existing plaza.

Issued on: September 12, 2007.
James J. Steele,
Division Administrator, Lansing Michigan.

[FR Doc. 07-4611 Filed 9-17-07; 8:45 am]

BILLING CODE 4910-22-M